DEPARTMENT OF AGRICULTURE

National Agricultural Statistics Service

Notice of Intent To Suspend the Postharvest Chemical Use Survey and All Associated Reports

AGENCY: National Agricultural Statistics Service, USDA.

ACTION: Notice of suspension of data collection and publication.

SUMMARY: This notice announces the intention of the National Agricultural Statistics Service (NASS) to suspend a currently approved information collection, the 2011 Postharvest Chemical Use Survey, and its associated publication.

FOR FURTHER INFORMATION CONTACT: Joseph T. Reilly, Associate Administrator, National Agricultural Statistics Service, U.S. Department of Agriculture, (202) 720-4333, or through the NASS OMB Clearance Officer at ombofficer@nass.usda.gov.

SUPPLEMENTARY INFORMATION: Title: Postharvest Chemical Use Survey.

OMB Control Number: 0535-0218.

Expiration Date of Approval: December 31, 2011.

Type of Request: To suspend a currently approved information collection.

Abstract: The primary objective of the National Agricultural Statistics Service (NASS) is to conduct surveys in order to prepare national, State, and county estimates of crop and livestock production, disposition, prices, and collect information on related environmental and economic factors. The Postharvest Chemical Use Survey is a part of the NASS chemical use program. This survey is used to collect and publish data on pesticide usage on selected crops after harvesting has been completed. The summarized data is available to other government agencies as well as the public. The surveys contain questions relating to the types of pesticides that are applied to selected crops after harvesting, how the chemicals are applied, when they are applied and how much was applied. Additional pest management practices are also studied. This information can be used when making decisions on food and worker safety issues.

Commodities That Were Targeted During the Past 10 Years
Year | Crop(s) | Year | Crop(s)
2011 | Corn ¹ | 2006 | Oats and Potatoes.
2010 | Wheat | 2005 | Peanuts.
2009 | None ² | 2004 | Oranges.
2008 | None ² | 2003 | Corn and Soybeans.
2007 | None ² | 2002 | Apples and Pears.
¹ Corn, is scheduled for 2011, but the survey will be suspended due to budget cuts.
² In 2007, 2008 and 2009 the Postharvest Chemical Use survey was suspended due to budget cuts.

NASS will suspend this information collection as of September 28, 2011 due to budget constraints. Also, NASS will not publish a Postharvest Chemical Use report in the Spring of 2012 unless there is a change in the anticipated budget shortfall.

Authority: These data were collected under authority of 7 U.S.C. 2204(a). Individually identifiable data collected under this authority are governed by Section 1770 of the Food Security Act of 1985, 7 U.S.C. 2276, which requires USDA to afford strict confidentiality to non-aggregated data provided by respondents.

Estimate of Burden: There will be no further public reporting burden for this collection of information.

Signed at Washington, DC, August 31, 2011.
Joseph T. Reilly,
Associate Administrator.

[FR Doc. 2011-24968 Filed 9-27-11; 8:45 am]

BILLING CODE 3410-20-P